DEPARTMENT OF VETERANS AFFAIRS

Annual Determination of Staffing Shortages

AGENCY: Department of Veterans Affairs.

ACTION: Notice.

SUMMARY: Section 7412 of title 38, United States Code (U.S.C.) requires the Department of Veterans Affairs (VA) Inspector General (IG) to determine and report on the top five occupations of VA personnel covered under 38 U.S.C. 7401, for which there are the largest staffing shortages. The top five occupations are calculated over the five-year period preceding the determination, and the Secretary of Veterans Affairs is required to publish these findings in the Federal Register. Based on its review, the IG identified the following six occupations as having the largest staffing shortages in the identified time period: Medical Officer, Nurse, Psychologist, Physician Assistant, Physical Therapist and Medical Technologist. Six occupations are identified because the Psychologist and Physician Assistant positions tied for the third position, and the Physical Therapist and Medical Technologist positions tied for the fifth position. Additional information and analysis can be found at: www.va.gov/OIG.

FOR FURTHER INFORMATION CONTACT: Karen Rasmussen, Management Review Service (10AR), Veterans Health Administration, 810 Vermont Avenue NW., Washington, DC 20420 Telephone: (202) 461-6643. (This is not a toll-free number.)

Signing Authority

The Secretary of Veterans Affairs, or designee, approved this document and authorized the undersigned to sign and submit the document to the Office of the Federal Register for publication electronically as an official document of the Department of Veterans Affairs. Gina S. Farrisee, Deputy Chief of Staff, Department of Veterans Affairs, approved this document on November 2, 2016 for publication.

Dated: November 16, 2016.
Michael Shores,
Acting Director, Regulation Policy & Management, Office of the Secretary, Department of Veterans Affairs.

[FR Doc. 2016-27976 Filed 11-18-16; 8:45 am]

BILLING CODE 8320-01-P